DEPARTMENT OF THE INTERIOR

Bureau of Land Management

[LLCON04000 L71220000.DF0000 LVTFCX700190 17X]

Notice of Intent To Amend the Resource Management Plan for the Colorado River Valley Field Office, Colorado, and Prepare an Associated Environmental Assessment

AGENCY: Bureau of Land Management, Interior.

ACTION: Notice of Intent.

SUMMARY: In compliance with the National Environmental Policy Act of 1969, as amended (NEPA), and the Federal Land Policy and Management Act of 1976, as amended (FLPMA), the Bureau of Land Management (BLM) Colorado River Valley Field Office (CRVFO), Silt, Colorado, intends to prepare a Resource Management Plan (RMP) Amendment with an associated Environmental Assessment (EA) to develop the Sutey Ranch and Haines Management Plan and by this Notice is announcing the beginning of the scoping process to solicit public comments and identify issues.

DATES: This Notice initiates the public scoping process for the RMP Amendment with an associated EA. Comments on issues may be submitted in writing until August 6, 2018. The date(s) and location(s) of any scoping meetings will be announced at least 15 days in advance through local news media, newspapers and the BLM website at: https://go.usa.gov/xnvM5. In order to be included in the analysis, all comments must be received prior to the close of the 30-day scoping period or 15 days after the last public meeting, whichever is later. The BLM will provide additional opportunities for public participation as appropriate.

ADDRESSES: You may submit comments on issues and planning criteria related to Sutey Ranch Management Plan by any of the following methods:

• Website: https://go.usa.gov/xnvM5.

• Email: blm_co_si_crvfo_webmail@blm.gov.

• Fax: (970) 876-9090.

• Mail: Bureau of Land Management, Colorado River Valley Field Office, 2300 River Frontage Road, Silt, CO 81652.

Documents pertinent to this proposal may be examined at the Colorado River Valley Field Office at the above address.

FOR FURTHER INFORMATION CONTACT: Brian Hopkins, Assistant Field Manager, telephone (970) 876-9003; address 2300 River Frontage, Silt, CO 81652; email blm_co_si_crvfo_webmail@blm.gov. Contact Brian Hopkins to have your name added to our mailing list. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: This document provides notice that the CRVFO, Silt, Colorado, intends to prepare an RMP Amendment with an associated EA for the future management of the recently acquired Sutey Ranch and Haines parcels. This Notice announces the beginning of the scoping process, and seeks public input on issues and planning criteria. The planning area encompasses approximately 669 acres of public land, including the 557-acre Sutey Ranch located in Garfield County, Colorado, and the 112-acre Haines parcel located along Prince Creek in Pitkin County, Colorado. The purpose of the public scoping process is to determine relevant issues that will influence the scope of the environmental analysis, including alternatives, and guide the planning process. The following preliminary issues for the RMP amendment identified by BLM personnel, Federal, State and local agencies, and other stakeholders include: Recreational use, big game winter range, grazing, cultural resources and water rights. Preliminary planning criteria include: (1) The BLM will continue to manage the public lands within the CRVFO in accordance with FLPMA, and other applicable laws and regulations including all existing public land laws; (2) the BLM will complete the RMP Amendment using an interdisciplinary approach to identify alternatives and analyze resource impacts, including cumulative impacts to natural and cultural resources, and the social and economic environment; and (3) the RMP Amendment process will follow the FLPMA planning process and the BLM will develop an EA with appropriate environmental analysis of the alternatives, consistent with NEPA.

You may submit comments on issues and planning criteria in writing to the BLM at any public scoping meeting, or you may submit them to the BLM using one of the methods listed in the ADDRESSES section above. Comments must be submitted by the close of the 30-day scoping period or within 15 days after the last public meeting, whichever is later.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian Tribes on a government-to-government basis in accordance with Executive Order 13175 and other policies. Tribal concerns, including impacts on Indian trust assets and potential impacts to cultural resources, will be given due consideration. Federal, State and local agencies, along with Tribes and other stakeholders that may be interested in or affected by the proposed action that the BLM is evaluating, are invited to participate in the scoping process and, if eligible, may request or be requested by the BLM to participate in the development of the environmental analysis as a cooperating agency. Before including your address, phone number, email address, or other personal identifying information in your comment, you should be aware that your entire comment—including your personal identifying information—may be made publicly available at any time. While you can ask us in your comment to withhold your personal identifying information from public review, we cannot guarantee that we will be able to do so. The BLM will evaluate identified issues to be addressed in the plan, and will place them into one of three categories:

1. Issues to be resolved in the plan amendment;

2. Issues to be resolved through policy or administrative action; or

3. Issues beyond the scope of this plan amendment.

The BLM will provide an explanation in the Draft RMP Amendment/Preliminary EA as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: Rangeland management, minerals and geology, fuels, outdoor recreation, archaeology, paleontology, wildlife and fisheries, lands and realty, hydrology, soils, botany and ecology.

Authority: 40 CFR 1501.7 and 43 CFR 1610.2

Andy Tenney,
Acting BLM Colorado State Director.

[FR Doc. 2018-14442 Filed 7-5-18; 8:45 am]

BILLING CODE 4310-JB-P